DEPARTMENT OF HOMELAND SECURITY

Coast Guard

33 CFR Part 110

[Docket No. USCG-2007-0198]

RIN 1625-AA01

Anchorage Regulations; Stonington, ME, Deer Island Thorofare, Penobscot Bay, ME

AGENCY: Coast Guard, DHS.

ACTION: Notice of proposed rulemaking.

SUMMARY: The Coast Guard proposes to establish Crotch Island Special Anchorage in Stonington, Maine, on Deer Island Thorofare, Penobscot Bay. This action is necessary to facilitate safe navigation in that area and to provide safe and secure anchorage for vessels of not more than 65 feet. This proposal is intended to increase the safety for life and property on Deer Island Thorofare, improve the safety of anchored vessels, create workable boundaries for future mooring expansion, and provide for the overall safe and efficient flow of recreational vessels and commerce.

DATES: Comments and related material must reach the Coast Guard on or before April 14, 2008.

ADDRESSES: You may mail comments and related material to Commander (dpw) (USCG-2007-0198), First Coast Guard District, 408 Atlantic Ave., Boston, Massachusetts 02110, who maintains the public docket for this rulemaking. Comments and material received from the public, as well as documents indicated in this preamble as being available in the docket, will become part of this docket and will be available for inspection or copying at room 628, First Coast Guard District Boston, between 8 a.m. and 3 p.m., Monday through Friday, except Federal holidays.

FOR FURTHER INFORMATION CONTACT: Mr. John J. Mauro, Commander (dpw), First Coast Guard District, 408 Atlantic Ave., Boston, Massachusetts 02110, Telephone (617) 223-8355 or e-mail at John.J.Mauro@uscg.mil.

SUPPLEMENTARY INFORMATION:

Request for Comments

We encourage you to participate in this rulemaking by submitting comments and related material. If you do so, please include your name and address, identify the docket number for this rulemaking (USCG-2007-0198), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to the Waterways Management Branch at the address under ADDRESSES explaining why one would be beneficial. If we determine that one would aid this rulemaking, we will hold one at a time and place announced by a later notice in the Federal Register.

Background and Purpose

The proposed rule is the result of collaboration with the Town of Stonington's Harbor Committee and Town Council to accommodate vessels mooring in the area. The proposed rule would establish Crotch Island Special Anchorage area organized from the current accommodations of approximately 500 moorings. The proposed rule is designed to aid the Town of Stonington in enforcing its mooring and boating regulations by clearly defining the available mooring fields. In addition, the proposed rule will ensure that there are transient anchorage areas available, and extend the convenience of a special anchorage to local vessel owners. The areas under consideration are currently established mooring areas.

In developing this proposed rule, the Coast Guard has consulted with the Army Corps of Engineers, Northeast, located at 696 Virginia Road, Concord, MA 01742.

Discussion of Proposed Rule

The proposed rule would create Crotch Island Special Anchorage area located at the town of Stonington, Maine, on Deer Island Thorofare, Penobscot Bay.

All waters enclosed by a line beginning at a point on the northeast shore of Crotch Island located at latitude 44°08′51.0″ N, longitude 068°40′06.0″ W; thence southerly along the shoreline to latitude 44°08′36.0″ N, longitude 068°40′07.02″ W; thence to latitude 44°08′36.0″ N, longitude 068°40′04.02″ W; thence to latitude 44°08′46.98″ N, longitude 068°40′00.0″ W; thence to latitude 44°08′55.02″ N, longitude 068°39′49.02″ W; thence to latitude 44°08′54.0″ N, longitude 068°40′06.0″ W thence back to origin.

All proposed coordinates are North American Datum 1983 (NAD 83).

This special anchorage area would be limited to vessels no greater than 65 feet in length. Vessels not more than 65 feet in length are not required to sound signals as required by rule 35 of the Inland Navigation Rules (33 U.S.C. 2035) nor exhibit anchor lights or shapes required by rule 30 of the Inland Navigation Rules (33 U.S.C 2030) when at anchor in a special anchorage area. Mariners utilizing this anchorage area are encouraged to contact local and state authorities, such as the local harbormaster, to ensure compliance with any additional applicable state and local laws. Such laws may involve, for example, compliance with direction from the local harbormaster when placing or using moorings within the anchorage.

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary.

This finding is based on the fact that this proposal conforms to the changing needs of the Town of Stonington, the changing needs of recreational, fishing and commercial vessels, and to make the best use of the available navigable water. The proposed special anchorage area does not impede the passage of recreational or commercial vessels as they are not located in the primary entrance channel to Stonington Harbor. The proposed special anchorage area is a consolidation and delineation of existing mooring fields. Thus, this special anchorage area will have a minimal economic impact. This proposed rule is in the interest of safe navigation, protection of the vessels moored at the Town of Stonington, and protection of the marine environment.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: The owners or operators of recreational or commercial vessels intending to transit in a portion of the Deer Island Thorofare in and around this special anchorage area. However, this special anchorage area would not have a significant economic impact on these entities for the following reasons: The proposed special anchorage area is not located near the primary entrance into Stonington Harbor nor will it impede safe and efficient vessel transit in the area.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact Mr. John J. Mauro, Commander (dpw), First Coast Guard District, 408 Atlantic Ave., Boston, Massachusetts 02110, Telephone (617) 223-8355 or e-mail at John.J.Mauro@uscg.mil.

The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132. Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD and Department of Homeland Security Management Directive 5100.1, which guide the Coast Guard in complying with the National Environmental Policy Act of 1969 (NEPA) (42 U.S.C. 4321-4370f), and have made a preliminary determination that there are no factors in this case that would limit the use of a categorical exclusion under section 2.B.2 of the Instruction. Therefore, we believe that this rule should be categorically excluded, under figure 2-1, paragraph (34)(f), of the Instruction, from further environmental documentation. This rule fits the category selected from paragraph (34)(f) as it would establish a special anchorage area.

A preliminary “Environmental Analysis Check List” is available in the docket where indicated under ADDRESSES. Comments on this section will be considered before we make the final decision on whether this rule should be categorically excluded from further environmental review and documentation.

List of Subjects in 33 CFR Part 110

Anchorage grounds.

For the reasons discussed in the preamble, the Coast Guard proposes to amend 33 CFR part 110 as follows:

PART 110—ANCHORAGE REGULATIONS

1. The authority citation for part 110 continues to read as follows:

Authority: 33 U.S.C. 471; 1221 through 1236, 2030, 2035 and 2071; 33 CFR 1.05-1; Department of Homeland Security Delegation No. 0170.1.

2. Amend § 110.4 by adding paragraph (e) to read as follows:

§ 110.4 Penobscot Bay, Maine.

* * * * *

(e) Stonington Harbor, Deer Island Thorofare—(1) Crotch Island. All of the waters enclosed by a line beginning at the northeast shore of Crotch Island located at: latitude 44°08′51.0″ N, longitude 068°40′06.0″ W; thence southerly along the shoreline to latitude 44°08′36.0″ N, longitude 068°40′07.02″ W; thence to latitude 44°08′36.0″ N, longitude 068°40′04.02″ W; thence to latitude 44°08′46.98″ N, longitude 068°40′00.0″ W; thence to latitude 44°08′55.02″ N, longitude 068°39′49.02″ W; thence to latitude 44°08′54.0″ N, longitude 068°40′06.0″ W thence back to origin.

DATUM: NAD 83.

(2) [Reserved]

Note to § 110.4(e): An ordinance of the Town of Stonington, Maine requires the approval of the Stonington Harbor Master for the location and type of moorings placed in these special anchorage areas. All anchoring in the areas are under the supervision of the Stonington Harbor Master or other such authority as may be designated by the authorities of the Town of Stonington, Maine. All moorings are to be so placed that no moored vessel will extend beyond the limit of the area.

Dated: January 17, 2008.
Timothy S. Sullivan,
Rear Admiral, U.S. Coast Guard, Commander, First Coast Guard District.

[FR Doc. E8-2693 Filed 2-13-08; 8:45 am]

BILLING CODE 4910-15-P